DEPARTMENT OF AGRICULTURE

Grain Inspection, Packers and Stockyards Administration (GIPSA)

Opportunity for Designation in Cedar Rapids, IA; Fremont, NE; State of Maryland; and West Lafayette, IN Areas; Request for Comments on the Official Agencies Servicing These Areas

AGENCY: Grain Inspection, Packers and Stockyards Administration, USDA.

ACTION: Notice.

SUMMARY: The designations of the official agencies listed below will end on June 30, 2016. We are asking persons or governmental agencies interested in providing official services in the areas presently served by these agencies to submit an application for designation. In addition, we are asking for comments on the quality of services provided by the following designated agencies: Mid-Iowa Grain Inspection, Inc. (Mid-Iowa); Fremont Grain Inspection Department, Inc. (Fremont); Maryland Department of Agriculture (Maryland); and Titus Grain Inspection, Inc. (Titus).

DATES: Applications and comments must be received by April 28, 2016.

ADDRESSES: Submit applications and comments concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Mail, Courier or Hand Delivery: Eric J. Jabs, Deputy Director, USDA, GIPSA, FGIS, QACD, 10383 North Ambassador Drive, Kansas City, MO 64153.

• Fax: Eric J. Jabs, 816-872-1257.

• Email: FGIS.QACD@usda.gov.

Read Applications and Comments: All applications and comments will be available for public inspection at the office above during regular business hours (7 CFR 1.27(c)).

FOR FURTHER INFORMATION CONTACT: Eric J. Jabs, 816-659-8408 or FGIS.QACD@usda.gov.

SUPPLEMENTARY INFORMATION: Section 79(f) of the United States Grain Standards Act (USGSA) authorizes the Secretary to designate a qualified applicant to provide official services in a specified area after determining that the applicant is better able than any other applicant to provide such official services (7 U.S.C. 79 (f)). Under section 79(g) of the USGSA, designations of official agencies are effective for no longer than five years, unless terminated by the Secretary, and may be renewed according to the criteria and procedures prescribed in section 79(f) of the USGSA.

Areas Open for Designation

Cedar Rapids, IA

Pursuant to Section 79(f)(2) of the United States Grain Standards Act, the following geographic area, in the States of Minnesota and Iowa, is assigned to this official agency.

In Minnesota

Wabasha, Olmstead, Winona, Houston, and Fillmore Counties.

In Iowa

Bounded on the North by the northern Winneshiek and Allamakee County lines;

Bounded on the East by the eastern Allamakee County line; the eastern and southern Clayton County lines; the eastern Buchanan County line; the northern and eastern Jones County lines; the eastern Cedar County line south to State Route 130;

Bounded on the South by State Route 130 west to State Route 38; State Route 38 south to Interstate 80; Interstate 80 west to U.S. Route 63;

Bounded on the West by U.S. Route 63 north to State Route 8; State Route 8 east to State Route 21; State Route 21 north to D38; D38 east to State Route 297; State Route 297 north to V49; V49 north to Bremer County; the southern Bremer County line; the western Fayette and Winneshiek County lines.

Fremont, NE

Pursuant to Section 79(f)(2) of the United States Grain Standards Act, the following geographic area, in the States of Iowa and Nebraska, is assigned to this official agency.

In Iowa

Carroll (west of U.S. Route 71), Clay (west of U.S. Route 71), Crawford, Dickinson (west of U.S. Route 71), Harrison (east of State Route 183), O'Brien (north of County Road B24 and east of U.S. Route 59), Osceola (east of U.S. Route 59), and Shelby Counties.

In Nebraska

Burt, Butler, Colfax, Cuming, Dodge, Madison (east of U.S. Route 81), Pierce (east of U.S. Route 81 and South of U.S. Route 20), Platte, Polk, Saunders (west of U.S. Route 77), Stanton, Washington (north of State Route 91), and Wayne Counties.

The following grain elevators are part of this geographic area assignment: In Omaha Grain Inspection Service, Inc.'s area-Farmers Union Cooperative Association and Krumel Grain and Storage, Wahoo, Saunders County, Nebraska. The following grain elevators are not part of this geographic area assignment and are assigned to: Hastings Grain Inspection, Inc.-Huskers Cooperative Grain Company, Columbus, Platte County, Nebraska; Omaha Grain Inspection Service, Inc.-United Farmers Coop, Rising City, Butler County, and United Farmers Coop, Shelby, Polk County, Nebraska.

State of Maryland

Pursuant to Section 79(f)(2) of the United States Grain Standards Act, the following geographic area, in the State of Maryland, is assigned to this official agency.

In Maryland

The entire State of Maryland, for all domestic services and export services not located at export port locations.

All export port locations within the State of Maryland are serviced by GIPSA.

Lafayette, IN

Pursuant to Section 79(f)(2) of the United States Grain Standards Act, the following geographic area, in the State of Indiana, is assigned to this official agency.

In Indiana

Benton, Carroll (north of State Route 25), Fountain (east of U.S. Route 41), Jasper (south of U.S. Route 24), Newton (east of State Route 55 and south of U.S. Route 24), Pulaski, Tippecanoe, Warren (east of U.S. Route 41), and White Counties.

The following grain elevators are part of this geographic area assignment: In Champaign-Danville Grain Inspection Department, Inc.'s area-Boswell Chase Grain, Inc., Boswell, Benton County, Indiana. In North Dakota Grain Inspection Service, Inc.'s area-The Andersons, Delphi, Carroll County; Frick Services, Inc., Leiters Ford, Fulton County; and Cargill, Inc./Valero Renewable Fuels, LLC., Linden, Montgomery County, Indiana.

Opportunity for Designation

Interested persons or governmental agencies may apply for designation to provide official services in the geographic areas specified above under the provisions of section 79(f) of the USGSA and 7 CFR 800.196. Designation in the specified geographic areas in Cedar Rapids, IA is for the period beginning July 1, 2016, to June 30, 2020. Designation in the specified geographic areas in Fremont, NE; State of Maryland; and Lafayette, IN, is for the period beginning July 1, 2016, to June 30, 2021. To apply for designation or to request more information, contact Eric J. Jabs at the address listed above.

Request for Comments

We are publishing this Notice to provide interested persons the opportunity to comment on the quality of services provided by the Mid-Iowa, Fremont, Maryland, and Titus official agencies. In the designation process, we are particularly interested in receiving comments citing reasons and pertinent data supporting or objecting to the designation of the applicants. Submit all comments to Eric J. Jabs at the above address or at http://www.regulations.gov.

We consider applications, comments, and other available information when determining which applicants will be designated.

Authority: 7 U.S.C. 71-87k.

Larry Mitchell,
Administrator, Grain Inspection, Packers and Stockyards Administration.

[FR Doc. 2016-06997 Filed 3-28-16; 8:45 am]

BILLING CODE 3410-KD-P